DEPARTMENT OF COMMERCE

International Trade Administration

[A-570-863]

Honey From the People's Republic of China; Notice of Final Results of Antidumping Duty New Shipper Reviews

AGENCY: Import Administration, International Trade Administration, Department of Commerce.

EFFECTIVE DATE: February 25, 2005.

SUMMARY: On November 29, 2004, the U.S. Department of Commerce (“the Department”) published the preliminary results of the new shipper reviews of the antidumping order on honey from the People's Republic of China (69 FR 69350). These reviews cover four exporters, Anhui Honghui Foodstuff (Group) Co., Ltd. (“Anhui Honghui”), Eurasia Bee's Products Co., Ltd. (“Eurasia”), Inner Mongolia Youth Trade Development Co., Ltd. (“Inner Mongolia Youth”), and Jiangsu Kanghong Natural Healthfoods Co., Ltd. (“Jiangsu Kanghong”). The period of review (“POR”) is December 1, 2002, through November 30, 2003.

Based on our analysis of the record, and on comments from the interested parties, we have made changes to the margin calculations of all four producers/exporters as described below. See “Final Results of Review” section below.

FOR FURTHER INFORMATION CONTACT: Anya Naschak or Kristina Boughton at (202) 482-6375 or (202) 482-8173, respectively; AD/CVD Operations, Office 9, Import Administration, International Trade Administration, U.S. Department of Commerce, 1401 Constitution Avenue NW, Washington, DC 20230.

SUPPLEMENTARY INFORMATION:

Background

On November 29, 2004, the Department published the preliminary results of these reviews. See Notice of Preliminary Results of Antidumping Duty New Shipper Reviews: Honey from the People's Republic of China, 69 FR 69350 (November 29, 2004) (“Preliminary Results”).

We invited parties to comment on the Preliminary Results. We received case briefs from the American Honey Producers Association and the Sioux Honey Association (collectively, petitioners) and from Anhui Honghui, Eurasia, and Jiangsu Kanghong on December 29, 2004. We received rebuttal briefs from the same parties on January 7, 2005. Parties did not request a public hearing.

Scope of the Order

The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under item 0409.00.00, 1702.90.90, and 2106.90.99 of the Harmonized Tariff Schedule of the United States (“HTSUS”). Although the HTSUS subheadings are provided for convenience and customs purposes, the written description of the merchandise under the order is dispositive.

Analysis of Comments Received

All issues raised in the briefs are addressed in the Issues and Decision Memorandum for the Final Results in the 2002/2003 New Shipper Reviews of Honey from the People's Republic of China from Barbara E. Tillman, Acting Deputy Assistant Secretary to Joseph A. Spetrini, Acting Assistant Secretary, dated February 17, 2005 (“Issues and Decision Memorandum”), which is hereby adopted by this notice. A list of the issues raised, all of which are in the Issues and Decision Memorandum, is attached to this notice as Appendix I. Parties can find a complete discussion of all issues raised in the briefs and the corresponding recommendations in this public memorandum which is on file in the Central Records Unit (“CRU”), room B-099 of the Herbert H. Hoover Building. In addition, a complete version of the Issues and Decision Memorandum can be accessed directly on the Web at http://ia.ita.doc.gov/frn/index.html. The paper copy and electronic version of the Issues and Decision Memorandum are identical in content.

Changes Since the Preliminary Results

Based on the comments received from the interested parties, we have made changes to the margin calculations for Anhui Honghui, Eurasia, Jiangsu Kanghong, and Inner Mongolia Youth. For the final results, we revised our calculation of surrogate financial ratios for factory overhead, selling, general and administrative expenses (“SG&A”), and profit, to use the more contemporaneous 2003/2004 annual report from the Mahabaleshwar Honey Producers Cooperative (“MHPC”), and applied these new ratios in our margin calculations. See e.g., Issues and Decision Memorandum at Comment 3.

We also revised our calculation of constructed export price (“CEP”) profit for Anhui Honghui, and Jiangsu Kanghong to use the surrogate profit ratio from MHPC's financial statements in accordance with the Department's practice. See e.g., Issues and Decision Memorandum at Comment 5.

For Anhui Honghui and Eurasia, we have revised the treatment of marine insurance costs. See e.g., Issues and Decision Memorandum at Comment 4. Also for Anhui Honghui we are no longer including marine insurance in the calculation of net U.S. price for certain sales on which those expenses were not incurred. See Id.

Final Results of New Shipper Reviews

We determine that the following antidumping margin percentages exist during the period of December 1, 2002, through November 30, 2003:

Exporter | Producer(s) | Margin (percent)
Anhui Honghui Foodstuff (Group) Co., Ltd | Anhui Honghui Foodstuff (Group) Co., Ltd | 25.72
Eurasia Bee's Products Co., Ltd | Eurasia Bee's Products Co., Ltd. or Chuzhou Huadi Foodstuffs Co., Ltd | 50.35
Inner Mongolia Youth Trade Development Co., Ltd | Qinhuangdao Municipal Dafeng Industrial Co., Ltd | 51.71
Jiangsu Kanghong Natural Healthfoods Co., Ltd | Jiangsu Kanghong Natural Healthfoods Co., Ltd | 46.92

Assessment of Antidumping Duties

The Department shall determine, and U.S. Customs and Border Protection (“CBP”) shall assess, antidumping duties on all appropriate entries. Pursuant to 19 CFR 351.212(b)(1), we calculated importer- or customer-specific ad valorem duty assessment rates based on the ratio of the total amount of the dumping margins calculated for the examined sales to the total entered value of those same sales. In accordance with 19 CFR 351.106(c)(2), we will instruct CBP to liquidate without regard to antidumping duties all entries of subject merchandise during the POR for which the importer- or customer-specific assessment rate is zero or de minimis (i.e., less than 0.50 percent). The Department will issue appropriate assessment instructions directly to CBP within 15 days of publication of the final results of these reviews.

Cash Deposit Requirements

Bonding will no longer be permitted to fulfill security requirements for shipments from Anhui Honghui, Eurasia, Inner Mongolia Youth, and Jiangsu Kanghong of honey from the PRC entered, or withdrawn from warehouse, for consumption in the United States on or after the publication of this notice in the Federal Register. The following cash deposit rates shall be required for merchandise subject to the order entered, or withdrawn from warehouse, for consumption on or after the publication date of these final results for these new shipper reviews, as provided for by section 751(a)(1) of the Tariff Act of 1930, as amended: (1) The cash deposit rates for Anhui Honghui (i.e., for subject merchandise both manufactured and exported by Anhui Honghui only); Eurasia (i.e., for subject merchandise manufactured by Eurasia or Chuzhou Huadi Foodstuffs Co., Ltd. (“Chuzhou”) and exported by Eurasia); Inner Mongolia Youth (i.e., for subject merchandise manufactured by Qinhuangdao Municipal Dafeng Industrial Co., Ltd. (“QDI”) and exported by Inner Mongolia Youth); and Jiangsu Kanghong (i.e., for subject merchandise both manufactured and exported by Jiangsu Kanghong only) will be the rates indicated above; (2) the cash deposit rate for PRC exporters who received a separate rate in a prior segment of the proceeding will continue to be the rate assigned in that segment of the proceeding; (3) the cash deposit rate for the PRC entity and for subject merchandise exported by Anhui Honghui not manufactured by Anhui Honghui; exported by Eurasia not manufactured by Eurasia or Chuzhou; exported by Inner Mongolia Youth not manufactured by QDI; and exported by Jiangsu Kanghong not manufactured by Jiangsu Kanghong, will continue to be the PRC- wide rate (i.e., 183.80 percent); and (4) the cash deposit rate for non-PRC exporters of subject merchandise from the PRC will be the rate applicable to the PRC exporter that supplied that non-PRC exporter. These deposit requirements shall remain in effect until publication of the final results of the next administrative review. There are no changes to the rates applicable to any other companies under this antidumping duty order.

Notification to Interested Parties

The Department will disclose calculations performed in connection with these final results of review within five days of the date of publication of this notice in accordance with 19 CFR 351.224(b) of its regulations. This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (“APO”) of their responsibility concerning the disposition of proprietary information disclosed under APO in accordance with section 351.305(a)(3) of the Department's regulations. Timely written notification of the return/destruction of APO materials or conversion to judicial protective order is hereby requested. Failure to comply with the regulations and the terms of an APO is a sanctionable violation.

The final results of these new shipper reviews and notice are in accordance with sections 751(a)(2)(B) and 777(i)(1) of the Act.

Dated: February 17, 2005.
Joseph A. Spetrini,
Acting Assistant Secretary for Import Administration.

Appendix I—Issues in the Decision Memorandum

Comment 1: Appropriate Surrogate Value for Honey.

Comment 2: Whether the Tribune Article is Tainted by Conflict of Interest.

Comment 3: Calculation of the Financial Ratios.

Comment 4: Clerical Errors.

Comment 5: Recalculation of Constructed Export Price Profit.

Comment 6: Treatment of Non-dumped Sales.

Comment 7: Use of Indian Labor Rate for Valuing Labor.

Comment 8: Use of Regression-Based Wage Rate Information.

[FR Doc. E5-784 Filed 2-24-05; 8:45 am]

BILLING CODE 3510-DS-P